SUSQUEHANNA RIVER BASIN COMMISSION

Notice of Actions Taken at June 18, 2009 Meeting

AGENCY: Susquehanna River Basin Commission.

ACTION: Notice of Commission Actions.

SUMMARY: At its regular business meeting on June 18, 2009, in Binghamton, New York, the Commission held a public hearing as part of its regular business meeting. At the public hearing, the Commission: (1) Approved, modified, and tabled certain water resources projects; (2) approved two water resources projects involving diversions; (3) rescinded approval for one water resources project; (4) approved settlements involving three water resources projects; and (5) considered two requests for an administrative hearing on projects previously approved by the Commission. Details concerning these and other matters addressed at the public hearing and business meeting are contained in the Supplementary Information section of this notice.

DATES: June 18, 2009.

ADDRESSES: Susquehanna River Basin Commission, 1721 N. Front Street, Harrisburg, PA 17102-2391.

FOR FURTHER INFORMATION CONTACT: Richard A. Cairo, General Counsel, telephone: (717) 238-0423, ext. 306; fax: (717) 238-2436; e-mail: rcairo@srbc.net; or Stephanie L. Richardson, Secretary to the Commission, telephone: (717) 238-0423, ext. 304; fax: (717) 238-2436; e-mail: srichardson@srbc.net. Regular mail inquiries may be sent to the above address.

SUPPLEMENTARY INFORMATION: In addition to the public hearing and its related action items identified below, the following items were also presented or acted on at the business meeting: (1) Recognition of Col. Peter Mueller, alternate United States Member of the Commission, who is departing his position as Baltimore District Engineer in July 2009; (2) a report on the present hydrologic conditions of the basin indicating recovery from winter precipitation deficits; (3) a presentation on SRBC's Flooding “Priority Management Area” with additional information on the third anniversary of the June 2006 flood and enhancements to flood warning and preparedness; (4) presentation of the Maurice K. Goddard Award to David Nicosia of the National Weather Service, Binghamton Office; (5) adoption of an Application Fee Policy for Mine Drainage Withdrawals to guide the granting of fee waivers or reductions to projects using water impaired by abandoned mine drainage; (6) approval for proposed rulemaking regarding Commission approval of projects undergoing federal licensing/relicensing and other revisions; (7) revisions to the FY-2010 budget commencing July 1, 2009; (8) adoption of a FY-2011 budget commencing July 1, 2010; (9) ratification of a contract with the U.S. Geological Survey on simulation of baseline streamflow conditions, and approval of a grant application to the Pennsylvania Infrastructure Investment Authority (PENNVEST) regarding expansion of an innovative stormwater management project at the Pennsylvania Farm Show Complex; and (10) election of the member representing the U.S. Government as the new Chair of the Commission and the member representing the State of New York as the new Vice Chair of the Commission to serve in the next fiscal year. The Commission also heard counsel's report on legal matters affecting the Commission. The Commission also convened a public hearing and took the following actions:

Public Hearing—Projects Approved

1. Project Sponsor and Facility: ALTA Operating Company, LLC (Turner Lake), Liberty Township, Susquehanna County, PA. Surface water withdrawal of up to 0.393 mgd.

2. Project Sponsor and Facility: Chesapeake Appalachia, LLC (Chemung River), Athens Township, Bradford County, PA. Surface water withdrawal of up to 0.999 mgd.

3. Project Sponsor and Facility: Chesapeake Appalachia, LLC (Sugar Creek), Burlington Township, Bradford County, PA. Surface water withdrawal of up to 0.499 mgd.

4. Project Sponsor and Facility: Chesapeake Appalachia, LLC (Susquehanna River—Newton), Terry Township, Bradford County, PA. Surface water withdrawal of up to 0.999 mgd.

5. Project Sponsor and Facility: Chesapeake Appalachia, LLC (Susquehanna River—McCarthy), Wyalusing Township, Bradford County, PA. Surface water withdrawal of up to 1.440 mgd.

6. Project Sponsor and Facility: Chesapeake Appalachia, LLC (Towanda Creek—Monroe Hose), Monroe Township, Bradford County, PA. Surface water withdrawal of up to 0.400 mgd.

7. Project Sponsor and Facility: Chesapeake Appalachia, LLC (Towanda Creek—DeCristo), Leroy Township, Bradford County, PA. Surface water withdrawal of up to 0.499 mgd.

8. Project Sponsor and Facility: Chesapeake Appalachia, LLC (Wyalusing Creek—Vanderfeltz), Rush Township, Susquehanna County, PA. Surface water withdrawal of up to 0.499 mgd.

9. Project Sponsor and Facility: Citrus Energy (Inez Moss Pond), Benton Township, Columbia County, PA. Surface water withdrawal of up to 0.099 mgd.

10. Project Sponsor and Facility: East Resources, Inc. (Tioga River—Greer), Richmond Township, Tioga County, PA. Surface water withdrawal of up to 0.107 mgd.

11. Project Sponsor and Facility: EXCO-North Coast Energy, Inc. (Little Muncy Creek—LYC-01, Jordan), Franklin Town, Lycoming County, PA. Surface water withdrawal of up to 0.041 mgd.

12. Project Sponsor and Facility: EXCO-North Coast Energy, Inc. (Little Muncy Creek—LYC-02, Temple), Franklin Town, Lycoming County, PA. Surface water withdrawal of up to 0.091 mgd.

13. Project Sponsor and Facility: EXCO-North Coast Energy, Inc. (South Branch Tunkhannock Creek—WSC), Benton Township, Lackawanna County, PA. Surface water withdrawal of up to 0.091 mgd.

14. Project Sponsor and Facility: EXCO-North Coast Energy, Inc. (West Branch Susquehanna River—Sproul State Forest), Burnside Township, Centre County, PA. Surface water withdrawal of up to 1.080 mgd.

15. Project Sponsor: Exelon Generation Company, LLC. Project Facility: Three Mile Island Generating Station, Unit 1, Londonderry Township, Dauphin County, PA. Modification to project features of the consumptive water use approval (Docket No. 19950302).

16. Project Sponsor and Facility: Grand Water Rush, LLC (Grand Farm Pond), Dunnstable Township, Clinton County, PA. Surface water withdrawal of up to 0.022 mgd.

17. Project Sponsor: Pennsylvania Department of Environmental Protection, Bureau of Abandoned Mine Reclamation. Project Facility: Hollywood AMD Treatment Plant, Huston and Jay Townships, Clearfield and Elk Counties, PA. Groundwater withdrawal of up to 2.890 mgd from six deep mine complexes.

18. Project Sponsor: Pennsylvania Department of Environmental Protection, Bureau of Abandoned Mine Reclamation. Project Facility: Lancashire No. 15 AMD Treatment Plant, Barr Township, Cambria County, PA. Groundwater withdrawal of up to 7.400 mgd from Recovery Wells 1, 2, and 3, and D Seam Discharge.

19. Project Sponsor: PPL Holtwood, LLC. Project Facility: Holtwood Hydroelectric Station, Martic and Conestoga Townships, Lancaster County, and Chanceford and Lower Chanceford Townships, York County, PA. Redevelopment modifications of its operations on the lower Susquehanna River, including the addition of a second power station and associated infrastructure.

20. Project Sponsor and Facility: Schuylkill County Municipal Authority, Pottsville Public Water Supply System, Mount Laurel Subsystem, Butler Township, Schuylkill County, PA. Groundwater withdrawal of up to 0.362 mgd from the Gordon Well.

21. Project Sponsor and Facility: Southwestern Energy Company (Tunkhannock Creek—Price), Gibson Township, Susquehanna County, PA. Surface water withdrawal of up to 0.380 mgd.

22. Project Sponsor and Facility: Stone Energy Corporation (Wyalusing Creek—Hogan), Rush Township, Susquehanna County, PA. Surface water withdrawal of up to 0.750 mgd.

23. Project Sponsor and Facility: Stone Energy Corporation (Wyalusing Creek—Stang), Rush Township, Susquehanna County, PA. Surface water withdrawal of up to 0.750 mgd.

24. Project Sponsor and Facility: Susquehanna Gas Field Services, L.L.C. (Meshoppen Creek), Meshoppen Borough, Wyoming County, PA. Surface water withdrawal of up to 0.100 mgd.

25. Project Sponsor: Titanium Metals Corporation. Project Facility: Titanium Hearth Technologies, Inc., d.b.a. TIMET North American Operations, Caernarvon Township, Berks County, PA. Groundwater withdrawal of up to 0.099 mgd from Well 1.

26. Project Sponsor and Facility: Ultra Resources, Inc. (Elk Run), Gaines Township, Tioga County, PA. Surface water withdrawal of up to 0.020 mgd.

27. Project Sponsor and Facility: Valley Country Club, Sugarloaf Township, Luzerne County, PA. Groundwater withdrawal of up to 0.090 mgd from the Pumphouse Well and 0.090 mgd from the Shop Well.

Public Hearing—Projects Tabled

1. Project Sponsor and Facility: Charles Header-Laurel Springs Development, Barry Township, Schuylkill County, PA. Application for groundwater withdrawal of 0.099 mgd from Laurel Springs.

2. Project Sponsor and Facility: Charles Header-Laurel Springs Development, Barry Township, Schuylkill County, PA. Application for consumptive water use of up to 0.099 mgd.

3. Project Sponsor and Facility: EXCO-North Coast Energy, Inc. (Black Moshannon Creek), Snow Shoe Township, Centre County, PA. Application for surface water withdrawal of up to 0.140 mgd.

4. Project Sponsor and Facility: Fortuna Energy Inc. (Towanda Creek—Franklin Township Volunteer Fire Department), Franklin Township, Bradford County, PA. Application for surface water withdrawal of up to 2.000 mgd.

5. Project Sponsor and Facility: J-W Operating Company (Abandoned Mine Pool—Unnamed Tributary to Finley Run), Shippen Township, Cameron County, PA. Application for surface water withdrawal of up to 0.090 mgd.

6. Project Sponsor: UGI Development Company. Project Facility: Hunlock Power Station, Hunlock Township, Luzerne County, PA. Application for consumptive water use of up to 0.870 mgd.

7. Project Sponsor: UGI Development Company. Project Facility: Hunlock Power Station, Hunlock Township, Luzerne County, PA. Application for surface water withdrawal from the Susquehanna River of up to 55.050 mgd.

Public Hearing—Projects Withdrawn

1. Project Sponsor and Facility: Chesapeake Appalachia, LLC (Wyalusing Creek—Wells), Wyalusing Borough, Bradford County, PA. Application for surface water withdrawal of up to 0.999 mgd.

2. Project Sponsor and Facility: EXCO-North Coast Energy, Inc. (East Branch Tunkhannock Creek), Clifford Township, Lackawanna County, PA. Application for surface water withdrawal of up to 0.130 mgd.

Public Hearing—Projects Approved Involving Diversions

1. Project Sponsor: Pennsylvania Department of Environmental Protection, Bureau of Abandoned Mine Reclamation. Project Facility: Lancashire No. 15 AMD Treatment Plant, Barr Township, Cambria County, PA. Into-basin diversion of up to 10.000 mgd from the Ohio River Basin.

2. Project Sponsor and Facility: Schuylkill County Municipal Authority, Pottsville Public Water Supply System, Mount Laurel Subsystem, Butler Township, Schuylkill County, PA. Out-of-basin diversion of up to 0.428 mgd to the Delaware River Basin for water supply; and an existing into-basin diversion of up to 0.485 mgd from the Delaware River Basin.

Public Hearing—Rescission of Project Approval

1. Project Sponsor. Corning Incorporated; Fall Brook Facility (Docket No. 19960301), Corning, Steuben County, N.Y.

Public Hearing—Enforcement Actions

The Commission approved settlements in lieu of civil penalties for the following projects:

1. Belden & Blake Corporation (EnerVest Operating, LLC)—$150,000

2. Chester County Solid Waste Authority—$51,000

3. East Resources, Inc. (Tioga River)—$75,000

Public Hearing—Administrative Appeals

1. Docket No. 20081203 from petitioner Mark A. Givler, Esq.—The Commission granted Mr. Givler's request to supplement his filing, but denied his request for an administrative hearing and his request to reopen the docket.

2. Docket No. 20090315, from petitioner Delta Borough—The Commission tabled action on this appeal at the request of the petitioner.

Authority: Pub. L. 91-575, 84 Stat. 1509 et seq., 18 CFR PArts 806, 807, and 808.

Dated: July 8, 2009.
Thomas W. Beauduy,
Deputy Director.

[FR Doc. E9-16971 Filed 7-16-09; 8:45 am]

BILLING CODE 7040-01-P